DEPARTMENT OF HEALTH AND HUMAN SERVICES

Centers for Disease Control and Prevention

Disease, Disability, and Injury Prevention and Control Special Emphasis Panel: HIV Community Based Prevention Projects for the Commonwealth of Puerto Rico and the United States Virgin Islands, Program Announcement #03003

In accordance with section 10(a)(2) of the Federal Advisory Committee Act (Pub. L. 92-463), the Centers for Disease Control and Prevention (CDC) announces the following meeting:

Name: Disease, Disability, and Injury Prevention and Control Special Emphasis Panel (SEP): HIV Community Based Prevention Projects for the Commonwealth of Puerto Rico and the Unites States Virgin Islands, Program Announcement #03003.

Times and Dates: 9 a.m.-9:30 a.m., May 5, 2003—open. 9:30 a.m.-5 p.m., May 5, 2003—closed. 9 a.m.-5 p.m., May 6, 2003—closed.

Place: Atlanta Marriott Century Center, 2000 Century Boulevard, NE., Atlanta, GA 30345 (404) 325-0000.

Status: Portions of the meeting will be closed to the public in accordance with provisions set forth in section 552b(c) (4) and (6), title 5 U.S.C., and the Determination of the Director, Management Analysis and Services Office, CDC, pursuant to Public Law 92-463.

Matters To Be Discussed: The meeting will include the review, discussion, and evaluation of applications received in response to PA# 03003.

Note: Due to program oversight, this Federal Register notice is being published less than 15 days before the date of the meeting.

Contact Person for More Information: Beth Wolfe, Prevention Support Office, National Center for HIV, STD, and TB Prevention, CDC, Corporate Square Office Park, 8 Corporate Square Blvd., MS E-07, Atlanta, GA 30329, telephone (404) 639-8531.

The Director, Management Analysis and Services Office has been delegated the authority to sign Federal Register notices pertaining to announcements of meetings and other committee management activities, for both the Centers for Disease Control and Prevention and the Agency for Toxic Substances and Disease Registry.

Dated: April 23, 2003.
Alvin Hall,
Director, Management Analysis and Services Office, Centers for Disease Control and Prevention (CDC).

[FR Doc. 03-10503 Filed 4-28-03; 8:45 am]

BILLING CODE 4163-18-P